DEPARTMENT OF THE INTERIOR

Fish and Wildlife Service

[Docket No. FWS-R5-ES-2020-0098; FXES11130500000-212-FF05E00000]

Endangered and Threatened Wildlife and Plants; Draft Recovery Plan for the Rufa Red Knot

AGENCY: Fish and Wildlife Service, Interior.

ACTION: Notice of availability and request for public comment.

SUMMARY: We, the U.S. Fish and Wildlife Service, announce the availability of the draft recovery plan for rufa red knot, a bird subspecies listed as threatened under the Endangered Species Act. We request review and comment on this draft recovery plan from local, State, and Federal agencies, and the public.

DATES: We must receive comments by July 12, 2021.

ADDRESSES:

Document availability: The draft recovery plan, along with any comments and other materials that we receive, will be available for public inspection at http://www.regulations.gov in Docket No. FWS-R5-ES-2020-0098.

Submitting Comments: You may submit comments by one of the following methods:

• Internet: http://www.regulations.gov. Search for and submit comments on Docket No. FWS-R5-ES-2020-0098.

• U.S. Mail: Public Comments Processing, Attn: Docket No. FWS-R5-ES-2020-0098; U.S. Fish and Wildlife Service Headquarters, MS: PRB/3W; 5275 Leesburg Pike; Falls Church, VA 22041-3803.

For more information, see Availability of Public Comments under SUPPLEMENTARY INFORMATION.

FOR FURTHER INFORMATION CONTACT: Eric Schrading, Field Supervisor by phone at 609-382-5272, via email at eric_schrading@fws.gov, or via the Federal Relay Service at 800-877-8339.

SUPPLEMENTARY INFORMATION: We, the U.S. Fish and Wildlife Service (Service), announce the availability of the draft recovery plan for the threatened rufa red knot (Calidris canutus rufa) for public review and comment. The draft recovery plan includes objective, measurable criteria and management actions as may be necessary for removal of the species from the Federal List of Endangered and Threatened Wildlife. We request review and comment on this draft recovery plan from local, State, and Federal agencies, and the public.

Recovery Planning

Section 4(f) of the Endangered Species Act of 1973, as amended (Act; 16 U.S.C. 1531 et seq.), requires the development of recovery plans for listed species, unless such a plan would not promote the conservation of a particular species. Also pursuant to section 4(f) of the Act, a recovery plan must, to the maximum extent practicable, include (1) a description of site-specific management actions as may be necessary to achieve the plan's goals for the conservation and survival of the species; (2) objective, measurable criteria that, when met, would support a determination under section 4(a)(1) that the species should be removed from the List of Endangered and Threatened Species; and (3) estimates of the time and costs required to carry out those measures needed to achieve the plan's goal.

Species Background

The rufa red knot is a medium-sized, highly migratory shorebird that ranges across nearly the full latitude gradient of the Western Hemisphere. This subspecies is among the longest-distance migrants in the animal kingdom, and among the best-studied shorebirds in the world. Rufa red knots migrate annually between their breeding grounds on the central Canadian arctic tundra and four wintering regions that include the Atlantic coasts of Argentina and Chile, the northern coast of South America, the western Gulf of Mexico, and the southeast United States and the Caribbean. During migration, rufa red knots require a reliable network of coastal and inland staging areas and an ample supply of other coastal and inland stopover habitats distributed across the range. In the final listing rule published on December 12, 2014 (79 FR 73705), the Service determined that the rufa red knot is threatened under the ESA due to the following primary threats: Loss of breeding and nonbreeding habitat (including sea level rise, coastal engineering, coastal development, and arctic ecosystem change); likely effects related to disruption of natural predator cycles on the breeding grounds; reduced prey availability throughout the nonbreeding range; and increasing frequency and severity of asynchronies (mismatches) in the timing of the birds' annual migratory cycle relative to favorable food and weather conditions. Refer to the Species Status Assessment Report (USFWS 2020) for a full discussion of the species' biology and threats.

Recovery Strategy

The recovery strategy is to prevent loss of the rufa red knot's adaptive capacity by maintaining representation within and among four Recovery Units, and improving their resiliency and redundancy. Recovery efforts will focus on protecting, restoring, maintaining, and managing important nonbreeding habitats for adults and juveniles. Recovery actions will directly abate threats to red knots in their wintering and migration ranges, and will also increase resiliency of populations to withstand threats that stem from climate change in their Arctic breeding range and elsewhere. These actions include monitoring and safeguarding ample food supplies; preventing impacts from development and shoreline stabilization; managing human disturbance; and restoring key habitats. They may also include land acquisition, facilitated migration of certain beaches or tidal flats, and restoring natural coastal processes that create and maintain red knot habitat.

Availability of Public Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Sharon Marino,
Assistant Regional Director, Ecological Services, North Atlantic—Appalachian Region.

[FR Doc. 2021-10064 Filed 5-11-21; 8:45 am]

BILLING CODE 4333-15-P